Title 3—

The President

Proclamation 9451 of May 20, 2016

National Safe Boating Week, 2016

By the President of the United States of America

A Proclamation

Each year, as summer approaches and warmer weather draws crowds to our Nation's beaches, lakes, and rivers, we set aside a week to recognize the importance of taking boating safety precautions before taking to the water. Throughout National Safe Boating Week, we recognize the risks associated with one of our country's favorite pastimes and encourage everyone to apply safe boating practices.

Safe boating practices should be observed prior to leaving land—no matter the length of the trip, the type of boat, or the size of the body of water. Boaters can reduce risks and enhance their safety by enrolling in a boating safety course. Vessels should be thoroughly examined, float plans should be prepared, and current laws and regulations should be known prior to embarking on a journey on the water. I encourage everyone to visit www.USCGBoating.org to find resources, learn more about responsible boating, or apply for a free vessel safety check. When boat operators and their passengers exercise caution when boating—including by wearing life jackets at all times and avoiding consumption of drugs and alcohol—accidents can be avoided, lives can be saved, and everyone can have a safe and enjoyable experience.

This week, we also recognize the men and women of the United States Coast Guard who dedicate themselves to protecting our Nation's waterways and assisting those at sea. As we continue to take advantage of our country's beautiful bodies of water, let us recommit to ensuring water safety and exercising appropriate boating procedures.

In recognition of the importance of safe boating practices, the Congress, by joint resolution approved June 4, 1958 (36 U.S.C. 131), as amended, has authorized and requested the President to proclaim annually the 7-day period prior to Memorial Day weekend as “National Safe Boating Week.”

NOW, THEREFORE, I, BARACK OBAMA, President of the United States of America, do hereby proclaim May 21 through May 27, 2016, as National Safe Boating Week. I encourage all Americans who participate in boating activities to observe this occasion by learning more about safe boating practices and taking advantage of boating education.

IN WITNESS WHEREOF, I have hereunto set my hand this twentieth day of May, in the year of our Lord two thousand sixteen, and of the Independence of the United States of America the two hundred and fortieth.

[FR Doc. 2016-12557

Filed 5-24-16; 11:15 am]

Billing code 3295-F6-P